DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains in the possession of the University of Colorado Museum, Boulder, CO. The human remains were removed from Meagher County, MT.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by University of Colorado Museum professional staff in consultation with representatives of the Blackfeet Tribe of the Blackfeet Indian Reservation of Montana; Crow Tribe of Montana; Fort Belknap Indian Community of the Fort Belknap Reservation of Montana; and Three Affiliated Tribes of the Fort Berthold Reservation, North Dakota.

Possibly in 1905, human remains representing a minimum of two individuals were removed from Musselshell River, Meagher County, MT, possibly by Ralph Hubbard. One of the individuals appears to have sustained three gun-shot wounds. No known individuals were identified. No associated funerary objects are present.

Previously, human remains representing seven individuals from Meagher County, MT, were identified in the museum's Culturally Unidentifiable Human Remains Inventory (dated May 16, 1996). After consultation, human remains representing five individuals with two associated funerary objects from “in a butte (“Sentinal [sic] Rock”), Meagher County, MT,” were determined to be culturally affiliated with the Blackfeet Tribe, Crow Tribe, Fort Belknap Indian Community, and Three Affiliated Tribes (73 FR 8359-8360, February 13, 2008), and subsequently repatriated to the Blackfeet Tribe. The museum believed at that time that it had accounted for all of the human remains from Montana, and that the number of individuals listed in the Culturally Unidentifiable Human Remains Inventory was an error. However, on June 16, 2009, human remains representing two individuals from “Musselshell R., Montana” were found in the museum. This now accounts for all seven individuals originally listed in the inventory.

Based on biological evidence, the human remains are probably Native American. Based on geographic evidence, including Indian Land Claims Commission decisions and oral tradition, the human remains are reasonably believed to be Blackfeet, Crow, Gros Ventre, or Assiniboine. The Gros Ventre and the Assiniboine are Federally-recognized as the Fort Belknap Indian Community of the Fort Belknap Reservation of Montana. The Fort Belknap Indian Community of the Fort Belknap Reservation of Montana confirmed that the Gros Ventre and Assiniboine ranged through the Meagher County area mainly in the form of hunting and war parties. Based on oral tradition Crow Nations migrated through this area seasonally.

Officials of the University of Colorado Museum have determined that, pursuant to 25 U.S.C. 3001(9), the human remains described above represent the physical remains of two individuals of Native American ancestry. Officials of the University of Colorado Museum also have determined that, pursuant to 25 U.S.C. 3001(2), there is a relationship of shared group identity that can be reasonably traced between the Native American human remains and the Blackfeet Tribe of the Blackfeet Indian Reservation of Montana, Crow Tribe of Montana, and Fort Belknap Indian Community of the Fort Belknap Reservation of Montana.

Representatives of any other Indian tribe that believes itself to be culturally affiliated with the human remains should contact Steve Lekson, Curator of Anthropology, University of Colorado Museum, Henderson Building, Campus Box 218, Boulder, CO 80309-0218, telephone (303) 492-6671, before June 21, 2010. Repatriation of the human remains to the Blackfeet Tribe of the Blackfeet Indian Reservation of Montana, Crow Tribe of Montana, and Fort Belknap Indian Community of the Fort Belknap Reservation of Montana, may proceed after that date if no additional claimants come forward.

The University of Colorado Museum is responsible for notifying the Blackfeet Tribe of the Blackfeet Indian Reservation of Montana; Crow Tribe of Montana; Fort Belknap Indian Community of the Fort Belknap Reservation of Montana; and Three Affiliated Tribes of the Fort Berthold Reservation, North Dakota that this notice has been published.

Dated: May 6, 2010.
Sherry Hutt,
Manager, National NAGPRA Program.

[FR Doc. 2010-12272 Filed 5-20-10; 8:45 am]

BILLING CODE 4312-50-S